DEPARTMENT OF HEALTH AND HUMAN SERVICES

Administration for Children and Families

Statement of Organization, Functions and Delegations of Authority

Notice is hereby given that I have delegated to the Director of the Division of Unaccompanied Children's Services (DUCS) and to the DUCS Program Specialists, the following authority vested in the Director of the Office of Refugee Resettlement under the Homeland Security Act of 2002, Public Law No. 107-296, 462, 6 U.S.C. 279.

(a) Authority Delegated

Authority to make placement determinations for all unaccompanied alien children who are in Federal custody by reason of their immigration status and to implement such placement determinations under the Homeland Security Act of 2002, Public Law 107-296, 462(b)(1)(C) and (D), 6 U.S.C. 279(b)(1)(C) and (D).

(b) Limitations and Conditions

This delegation shall be exercised under financial and administrative requirements applicable to all Administration for Children and Families authorities. In making placement determinations, the DUCS Director and DUCS Program Specialists shall consult with the Department of Homeland Security to ensure that such determinations ensure that unaccompanied alien children: Are likely to appear for all hearings or proceedings in which they are involved; are protected from smugglers, traffickers, or others who might seek to victimize or otherwise engage them in criminal, harmful, or exploitive activity; and are placed in a setting in which they are not likely to pose a danger to themselves or others. In making placement determinations, the DUCS Director and DUCS Program Specialists shall not release unaccompanied alien children upon their own recognizance. The DUCS Director and DUCS Program Specialists will follow the policies and procedures on placement determinations set forth in DUCS placement guidelines. In appropriate cases, as set forth in DUCS placement guidelines, DUCS Program Specialists will obtain approval from the DUCS Director prior to making and implementing placement determinations. This authority may not be further redelegated.

(c) Effect on Existing Delegations

None.

(d) Effective Date

This delegation of authority is effective upon date of signature. In addition, I hereby affirm and ratify any actions taken by the DUCS Director or the DUCS Program Specialists, which, in effect, involved the exercise of this authority prior to the effective date of this delegation.

Dated: December 14, 2005.
Nguyen Van Hanh,
Director, Office of Refugee Resettlement.

[FR Doc. E6-3087 Filed 3-3-06; 8:45 am]

BILLING CODE 4184-01-P